ENVIRONMENTAL PROTECTION AGENCY

[ER-FRL-9006-7]

Environmental Impacts Statements; Notice of Availability

Responsible Agency: Office of Federal Activities, General Information (202) 564-7146 or http://www.epa.gov/compliance/nepa/

Weekly receipt of Environmental Impact Statements

Filed 12/17/2012 Through 12/21/2012

Pursuant to 40 CFR 1506.9.

Notice: Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp

EIS No. 20120394, Draft EIS, USFS, OR, Tollgate Fuels Reduction Project, Umatilla National Forest, Walla Walla Ranger District, Umatilla and Union Counties, OR, Comment Period Ends: 02/13/2013, Contact: Kimpton Cooper 509-522-6009.

EIS No. 20120395, Draft EIS, USFS, CA, AP Loblolly Pine Removal and Restoration Project, Andrew Pickens Ranger District, Sumter National Forest, Oconee County, CA, Comment Period Ends: 02/13/2013, Contact: Victor Wyant 864-638-9568.

EIS No. 20120396, Final Supplement, USACE, CA, Folsom Dam Modification Project Approach Channel, Providing New or Additional Information on the Design and Means to Construct the Auxiliary Spillway Approach Channel, Placer and El Dorado Counties, CA, Review Period Ends: 01/29/2013, Contact: Tyler Stalker 916-557-5107.

EIS No. 20120397, Final EIS, BLM, AK, National Petroleum Reserve—Alaska (NPR-A) Integrated Activity Plan, North Slope Borough, AK, Review Period Ends: 01/29/2013, Contact: Serena Sweet 907-271-4543.

EIS No. 20120398, Final EIS, NPS, WI, Ice Age Complex at Cross Plains General Management Plan, Implementation, Ice Age National Scenic Trail, Dane County, WI, Review Period Ends: 02/26/2013, Contact: John Madden 608-441-5610.

EIS No. 20120399, Draft EIS, USACE, CA, Feather River West Levee Project, To Reduce Flood Risk in the Sutter Basin, Sutter and Butte Counties, CA, Comment Period Ends: 02/13/2013, Contact: Jeff Koschak 916-557-6994.

EIS No. 20120400, Draft EIS, USACE, CA, Encinitas-Solana Beach Coastal Storm Damage Reduction Project, San Diego County, CA, Comment Period Ends: 02/26/2013, Contact: Lawrence Smith 213-452-3846.

EIS No. 20120401, Final EIS, DOE, MA, RI ADOPTION—Cape Wind Energy Project, Construction, Operation and Maintenance, and Decommissioning of a Electric Generation Facility, Barnstable, Nantucket and Duke Counties, MA and Washington County, RI, Review Period Ends: 01/29/2013, Contact: Matthew McMillen 202-586-7248.

The U.S. Department of Energy (DOE) has adopted the U.S. Department of the Interior's Mineral Management Service final EIS filed 1/09/2009. The DOE was not a cooperating agency for the above final EIS. Recirculation of the document is necessary under Section 1506.3(b) of the Council on Environmental Quality Regulations.

Dated: December 26, 2012.
Dawn Roberts,
Management Analyst, Office of Federal Activities.

[FR Doc. 2012-31461 Filed 12-28-12; 8:45 am]

BILLING CODE 6560-50-P